DEPARTMENT OF JUSTICE

Notice of Lodging of Proposed Consent Decree Under the Comprehensive Environmental Response, Compensation, and Liability Act

Notice is hereby given that on December 4, 2012, the Department of Justice lodged a proposed consent decree with the United States District Court for the Central District of California in the lawsuit entitled City of Colton v. American Promotional Events, Inc., et al., Civil Action No. CV 09-01864 PSG [Consolidated with Case Nos. CV 09-6630 PSG (SSx), CV 09-06632 PSG (SSx), CV 09-07501 PSG (SSx), CV 09-07508 PSG (SSx), CV 10-824 PSG (SSx) and CV 05-01479 PSG (SSx)].

In this action, the United States filed a complaint, among other things, under Section 107 of the Comprehensive Environmental Response, Compensation, and Liability Act of 1980, 42 U.S.C. 9607, (“CERCLA”), to recover past response costs incurred and other relief in connection with the B.F. Goodrich Superfund Site (“Site”) located approximately 60 miles east of Los Angeles in San Bernardino County, California. The consent decree requires Emhart Industries, Inc. to perform a proposed remedial cleanup action at the Site with a combination of its own funds and funds supplied by other settling parties; requires the Settling Federal Agencies, including the United States Department of Defense to make a payment of $19.5 million-$21.25 million toward the settlement funds, as well as to participate in funding certain cost overruns; and requires additional parties (American Promotional Enterprises, Inc. and American Promotional Enterprises, Inc.—West; Broco, Inc. and J.S. Brower & Associates, Inc.; Whittaker Corporation; Raytheon Company; the Ensign-Bickford Co.; and the County of San Bernardino and related parties) to make a total of $9.95 million in cash contributions to the settlement funds. In return, the United States provides covenants not to sue pursuant to Sections 106 and 107(a) of CERCLA and Section 7003 of the Resource Conservation and Recovery Act. The settlement also provides for the City of Rialto to receive $4,200,000 and the City of Colton to receive $3,800,000 in settlement funds. A hearing will be held on the proposed settlement if requested in writing within the public comment period.

The publication of this notice opens a period for public comment on the consent decree. Comments should be addressed to the Assistant Attorney General, Environment and Natural Resources Division, and should refer to City of Colton v. American Promotional Events, Inc., et al., D.J. Ref. No. 90-11-2-09952. All comments must be submitted by 5:00 p.m. Pacific Standard Time on January 31, 2013. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to:

Consent Decree Library, U.S. DOJ—ENRD, P.O. Box 7611, Washington, DC 20044-7611.

If requesting a copy of the consent decree with appendices by mail, please enclose a check in the amount of $102.25 (25 cents per page reproduction cost) payable to the U.S. Treasury or, if requesting a copy exclusive of appendices, please enclose a check in the amount of $53.25 (25 cents per page reproduction cost) payable to the U.S. Treasury.

Henry Friedman,
Assistant Chief, Environmental Enforcement Section, Environment and Natural Resources Division.

[FR Doc. 2012-29784 Filed 12-10-12; 8:45 am]

BILLING CODE 4410-CW-P